DEPARTMENT OF TRANSPORTATION

Coast Guard

33 CFR Part 117

[CGD01-01-025]

RIN 2115-AE47

Drawbridge Operation Regulations: Hackensack River, NJ

AGENCY: Coast Guard, DOT.

ACTION: Temporary final rule; withdrawal of notice of deviation.

SUMMARY: The Coast Guard is establishing a temporary final rule governing the operation of the Lincoln Highway Bridge, at mile 1.8, across the Hackensack River at Jersey City, New Jersey. This temporary final rule requires vessels to provide a one-hour daytime advance notice and a four-hour nighttime advance notice for bridge openings through May 7, 2001. This action is necessary to facilitate maintenance of the bridge.

DATES: This temporary final rule is effective from March 13, 2001 through May 7, 2001.

ADDRESSES: The public docket and all documents referred to in this notice are available for inspection or copying at the First Coast Guard District, Bridge Branch Office, 408 Atlantic Avenue, Boston, Massachusetts, 02110, 7 a.m. to 3 p.m., Monday through Friday, except Federal holidays.

FOR FURTHER INFORMATION CONTACT: Ms. Judy Yee, Project Officer, First Coast Guard District, (212) 668-7165.

SUPPLEMENTARY INFORMATION:

Regulatory Information

Pursuant to 5 U.S.C. 553, a notice of proposed rulemaking (NPRM) was not published for this regulation. Good cause exists for not publishing a NPRM and for making this regulation effective in less than 30 days after publication in the Federal Register. The temporary rule will not impose bridge closure periods, only advance notification requirements. The Coast Guard discussed the advance notification periods with all known waterway users likely to be impacted by this change in operating regulations and none objected. Any delay encountered in this regulation's effective date would be unnecessary and contrary to the public interest since immediate action is needed to perform maintenance repairs at the bridge to insure continued safe operation.

Background

The Lincoln Highway Bridge, at mile 1.8, across the Hackensack River has a vertical clearance of 35 feet at mean high water and 40 feet at mean low water. The existing operating regulations require the bridge to open on signal at all times.

The owner of the bridge, the New Jersey Department of Transportation (NJDOT), requested a temporary change to the operating regulations for the bridge to allow the bridge to operate as follows: February 12, 2001 through May 7, 2001 the Lincoln Highway Bridge shall open on signal; except that, Monday through Thursday, 9 a.m. to 4 p.m., at least a one-hour advance notice for bridge openings is required and from 9 p.m. on Friday through 5 a.m. on Monday, at least a four-hour advance notice for bridge openings is required. Vessels that can pass under the bridges without openings may do so at all times.

The bridge owner was initially granted a 60-day deviation to the operating regulations effective February 12, 2001 and published in the Federal Register on February 21, 2001 at 66 FR 10965. Because the bridge repair work is expected to take more than 60 days to complete, the notice of deviation is withdrawn and superseded by this temporary final rule.

Regulatory Evaluation

This rule is not a “significant regulatory action” under section 3(f) of Executive Order 12866 and does not require an assessment of potential costs and benefits under section 6(a)(3) of that Order. The Office of Management and Budget has not reviewed it under that Order. It is not “significant” under the regulatory policies and procedures of the Department of Transportation (DOT) (44 FR 11040; February 26, 1979). This conclusion is based on the fact that the bridge will continue to open at all times provided the advance notice is given.

Small Entities

Under the Regulatory Flexibility Act (5 U.S.C. 601-612) we considered whether this rule would have a significant economic impact on a substantial number of small entities. “Small entities” comprises small businesses, not-for-profit organizations that are independently owned and operated and are not dominant in their fields, and governmental jurisdictions with populations less than 50,000.

The Coast Guard certifies under 5 U.S.C. 605(b) that this rule will not have a significant economic impact on a substantial number of small entities. This conclusion is based on the fact that the bridge will continue to open on signal at all times provided the advance notice is given.

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local, or tribal government or the private sector to incur direct costs without the Federal Government's having first provided the funds to pay those unfunded mandate costs. This rule will not impose an unfunded mandate.

Taking of Private Property

This rule will not effect a taking of private property or otherwise have taking implications under E.O. 12630, Governmental Actions and Interference with Constitutionally Protected Property Rights.

Civil Justice Reform

This rule meets applicable standards in sections 3(a) and 3(b)(2) of E.O. 12988, Civil Justice Reform, to minimize litigation, eliminate ambiguity, and reduce burden.

Protection of Children

We have analyzed this rule under E.O. 13045, Protection of Children from Environmental Health Risks and Safety Risks. This rule is not an economically significant rule and does not concern an environmental risk to health or risk to safety that may disproportionately affect children.

Environment

The Coast Guard considered the environmental impact of this rule and concluded that under figure 2-1, paragraph (32)(e) of Commandant Instruction M16475.1C, this rule is categorically excluded from further environmental documentation because promulgation of changes to drawbridge regulations have been found to not have a significant effect on the environment. A written “Categorical Exclusion Determination” is not required for this rule.

List of Subjects in 33 CFR Part 117

Bridges.

Regulations

For the reasons set out in the preamble, the Coast Guard amends 33 CFR part 117 as follows:

PART 117—DRAWBRIDGE OPERATION REGULATIONS

1. The authority citation for part 117 continues to read as follows:

Authority: 33 U.S.C. 499; 49 CFR 1.46; 33 CFR 1.05-1(g); section 117.255 also issued under the authority of Pub. L. 102-587, 106 Stat. 5039.

2. From March 13, 2001 through May 7, 2001, in § 117.723 a new temporary paragraph (i) is added to read as follows:

§ 117.723 Hackensack River

* * * * *

(i) The Lincoln Highway Bridge, mile 1.8, shall open on signal; except that, Monday through Thursday, 9 a.m. to 4 p.m., at least a one-hour advance notice for bridge openings is required and from 9 p.m. on Friday through 5 a.m. on Monday, at least a four-hour advance notice for bridge openings is required.

Dated: February 27, 2001.
G.N. Naccara,
Rear Admiral, U.S. Coast Guard, Commander, First Coast Guard District.

[FR Doc. 01-6218 Filed 3-12-01; 8:45 am]

BILLING CODE 4910-15-U